NUCLEAR REGULATORY COMMISSION

[Docket No. 50-346-LA; ASLBP No. 13-928-02-LA-BD01]

FirstEnergy Nuclear Operating Company; Establishment of Atomic Safety and Licensing Board

Pursuant to delegation by the Commission, see 37 Fed. Reg. 28,710 (Dec. 29, 1972), and the Commission's regulations, see 10 CFR 2.104, 2.105, 2.300, 2.309, 2.313, 2.318, and 2.321, notice is hereby given that an Atomic Safety and Licensing Board (Board) is being established to preside over the following proceeding:

FirstEnergy Nuclear Operating Company

[Davis-Besse Nuclear Power Station, Unit 1]

This proceeding involves a license amendment request from FirstEnergy Nuclear Operating Company for Davis-Besse Nuclear Power Station, Unit 1, which is located in Ottawa County, Ohio. In response to a “Notice of Consideration of Issuance of Amendments to Facility Operating Licenses and Combined Licenses, Proposed No Significant Hazards Consideration Determination, and Opportunity for a Hearing,” see 78 FR 16,876, 16,883 (Mar. 19, 2013), a hearing request was filed on May 20, 2013 by Beyond Nuclear, Citizens Environment Alliance of Southwestern Ontario, Don't Waste Michigan, and the Ohio Sierra Club.

The Board is comprised of the following administrative judges:

Paul S. Ryerson, Chairman, Atomic Safety and Licensing Board Panel, U.S. Nuclear Regulatory Commission, Washington, DC 20555-0001

Michael F. Kennedy, Atomic Safety and Licensing Board Panel, U.S. Nuclear Regulatory Commission, Washington, DC 20555-0001

Nicholas G. Trikouros, Atomic Safety and Licensing Board Panel, U.S. Nuclear Regulatory Commission, Washington, DC 20555-0001

All correspondence, documents, and other materials shall be filed in accordance with the NRC E-Filing rule (10 CFR 2.302), which the NRC promulgated in August 2007. See 72 FR 49,139.

Issued at Rockville, Maryland this 28th day of May 2013.
E. Roy Hawkens,
Chief Administrative Judge, Atomic Safety and Licensing Board Panel.

[FR Doc. 2013-13209 Filed 6-3-13; 8:45 am]

BILLING CODE 7590-01-P